DEPARTMENT OF HOUSING AND URBAN DEVELOPMENT

[Docket No. FR-5041-N-28]

Notice of Proposed Information Collection: Comment Request; Manufactured Home Construction and Safety Standards Program

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comment Due Date: September 29, 2007.

ADDRESSES: Interested persons are invited to submit comments regarding this proposal. Comments should refer to the proposal by name and/or OMB Control Number and should be sent to: Lillian Deitzer, Reports Management Officer, Department of Housing and Urban Development, 4451 7th Street, SW., L'Enfant Plaza Building, Room 8003, Washington, DC 20410, or Wayne_Eddins@hud.gov.

FOR FURTHER INFORMATION CONTACT: William W. Matchneer III, Administrator, Office of Manufactured Housing Programs, Department of Housing and Urban Development, 451 Seventh Street, SW., Washington, DC 20410; telephone (202) 708-6401 (this is not a toll-free number) for copies of the proposed forms and other available information.

SUPPLEMENTARY INFORMATION: The Department is submitting the proposed information collection to OMB for review, as requiried, by the Paperwork Reduction Act of 1995 (44 U.S.C. Chapter 25 as amended).

This notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g. permitting electronic submission of responses.

This Notice also lists the following information:

Title of Proposal: The Manufactured Home Construction and Safety Standards Program.

OMB Control Number: 2502-0233.

Description of the need for the information and proposed use: The Department of Housing and Urban Development uses these information collections to calculate and collect monitoring fees for manufactured housing units and to track the request, approval, and application of authorized certification labels.

Agency form numbers, if applicable: HUD-101, HUD-102, HUD-203B, HUD-301, HUD-302, HUD-303, HUD-304.

Estimation of the total number of hours needed to prepare the information collection including number of respondents, frequency of response,and hours of response: The estimated total number of burden hours needed to prepare the information collection is 5,208; the total number of respondents is 256 generating 7,536 annual responses; the frequency of response is on occasion; and the estimated time needed to prepare the responses is from one half hour to one hour.

Status of the proposed information collection: Extension of a currently approved collection.

Authority: The Paperwork Reduction Act of 1995, 44 U.S.C., Chapter 35, as amended.

Dated: July 24, 2006.
Frank L. Davis,
General Deputy Assistant Secretary for Housing—Deputy Federal Housing Commissioner.

[FR Doc. 06-6563 Filed 7-28-06; 8:45 am]

BILLING CODE 4210-67-M